DEPARTMENT OF DEFENSE

[Transmittal No. 20-50]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-50 with attached Policy Justification.

Dated: February 23, 2021.
Aaron T. Siegel,
Alternate OSD Federal Register Liaison Officer, Department of Defense.

BILLING CODE 5001-06-P

Transmittal No. 20-50

Notice of Proposed Issuance of Letter of Offer Pursuant to Section 36(b)(1) of the Arms Export Control Act, as Amended

(i) Prospective Purchaser: Government of Jordan

(ii) Total Estimated Value:

Major Defense Equipment * | $ 0 million
Other | $60 million
Total | $60 million

Funding Source: Foreign Military Financing (FMF)

(iii) Description and Quantity or Quantities of Articles or Services under Consideration for Purchase: Foreign Military Sales Case JO-D-QBN A2, implemented on January 22, 2018, for an F-16 Air Combat Training Center at $51.2 million, was at the time below congressional notification threshold. Jordan has requested the case be amended to include additional devices and support. This amendment will push the case above Jordan's current notification threshold and thus requires notification of the entire case.

Major Defense Equipment (MDE): None

Non-MDE: Includes an F-16 Air Combat Training Center and Devices comprised of full mission trainers, combat tactics trainers, instructor/operator stations, tactical environment simulators, brief/debrief stations, scenario generation stations, database generation stations, mission observation centers, and other training center equipment and support; software and software support; publications and technical documentation; maintenance, spares and repair parts and services; U.S. and contractor engineering, technical, and logistical support services; and other related elements of program support.

(iv) Military Department: Air Force (JO-D-QBN A3)

(v) Prior Related Cases, if any: JO-D-QCU

(vi) Sales Commission, Fee, etc., Paid, Offered, or Agreed to be Paid: None

(vii) Sensitivity of Technology Contained in the Defense Article or Defense Services Proposed to be Sold: None

(viii) Date Report Delivered to Congress: February 11, 2021

* As defined in Section 47(6) of the Arms Export Control Act.

POLICY JUSTIFICATION

Jordan—F-16 Air Combat Training Center

The Government of Jordan has requested to buy an F-16 Air Combat Training Center and Devices including full mission trainers, combat tactics trainers, instructor/operator stations, tactical environment simulators, brief/debrief stations, scenario generation stations, database generation stations, mission observation centers, and other training center equipment and support; software and software support; publications and technical documentation; maintenance, spares and repair parts and services; U.S. and contractor engineering, technical, and logistical support services; and other related elements of program support. The estimated total cost is $60 million.

This proposed sale will support the foreign policy and national security of the United States by helping to improve the security of a Major Non-NATO Ally that is an important force for political stability and economic progress in the Middle East.

The proposed sale will improve Jordan's capability to meet current and future threats by ensuring Jordan's pilots are effectively trained, which will contribute to the U.S.-Jordan lasting partnership and ensure the country's stability, a critical element to broader U.S. regional policy goals. Jordan will use this asset to enhance training of pilots. Jordan will have no difficulty absorbing these training center assets and simulators into its armed forces.

The proposed sale of this equipment and support will not alter the basic military balance in the region.

The principal contractor will be Lockheed Martin Corporation Rotary & Mission Systems, Orlando, FL. There are no known offset agreements proposed in connection with this potential sale.

Implementation of this proposed sale will require the assignment of two U.S. Lockheed Martin contractor representatives to Jordan for a duration of 2 years to support training.

There will be no adverse impact on U.S. defense readiness as a result of this proposed sale.

[FR Doc. 2021-04123 Filed 2-26-21; 8:45 am]

BILLING CODE 5001-06-C